DEPARTMENT OF ENERGY

Oak Ridge Operations Office; Certification of the Radiological Condition of the B&T Metals Site in Columbus, OH, 1996

AGENCY: Department of Energy (DOE), Oak Ridge Operations (ORO) Office of Environmental Management.

ACTION: Notice of certification.

SUMMARY: The Department of Energy has completed remedial action to decontaminate the B&T Metals Site in Columbus, Ohio. Formerly this property was found to contain quantities of residual radioactive material from activities conducted under contract to DuPont, acting as a contractor for the Manhattan Engineer District. Based on the analysis of all data collected, DOE has concluded that any residual radiological contamination remaining on-site at the conclusion of DOE's remedial action falls within radiological guidelines in effect at the conclusion of such remedial action.

ADDRESSES: The certification docket is available at the following locations:

U.S. Department of Energy, Public Reading Room, Room 1E-190, Forrestal Building, U.S. Department of Energy, 1000 Independence Avenue, S.W., Washington, D.C. 20585

State Library of Ohio, Documents Division, 65 South Front Street, Columbus, Ohio 43215

Public Document Room, Oak Ridge Operations Office, U.S. Department of Energy, 200 Administration Road, Oak Ridge, Tennessee 37831

FOR FURTHER INFORMATION CONTACT: Robert G. Atkin, Project Engineer, Office of Assistant Manager for Environmental Management, Oak Ridge Operations Office, U.S. Department of Energy, P.O. Box 2001, Oak Ridge, Tennessee 37831, phone: (865) 576-1826 fax: (865) 574-4724.

SUPPLEMENTARY INFORMATION: The DOE, ORO Office of Environmental Management, has conducted remedial action at the B&T Metals site in Columbus, Ohio, under the Formerly Utilized Sites Remedial Action Program (FUSRAP). The objective of the program is to identify and remediate or otherwise control sites where residual radioactive contamination remains from activities carried out under contract to the Manhattan Engineer District/Atomic Energy Commission (MED/AEC) during the early years of the nation's atomic energy program.

In October 1997, the U.S. Congress assigned responsibility for management of the program to the U.S. Army Corps of Engineers (USACE). Completion of the Certification process was delayed pending preparation of a Memorandum of Understanding between the DOE and USACE with regard to completed, remediated sites such as B&T Metals. The Memorandum of Understanding between the U.S. DOE and the U.S. Army Corps of Engineers Regarding Program Administration and Execution of the Formerly Utilized Sites Remedial Action Program was signed by the parties in March 1999. Funding to proceed with the completion of DOE closure documentation for several FUSRAP sites, including B&T Metals, was obtained from USACE in late 2000.

In 1943, the DuPont Company, acting as an agent of MED, contracted with the B&T Metals Company to extrude rods from uranium metal billets. The rods were destined for the Hanford reactor. Production extrusion began in March 1943 and continued until August of that year. It is likely that more than 50 tons of uranium was extruded.

The B&T Metals site consists of three buildings: the main building, a storage building, and an aluminum extrusion building. A review of historic Sanborn insurance maps from 1941 indicate that all three buildings were standing at the time of the MED activities.

Radiological protection during the MED work was provided by Metallurgical Laboratories of the University of Chicago. Measurements taken in March and April 1943 indicated significant amounts of airborne material, and the extension process was modified to reduce suspended particulate matter. Upon completion of the project, MED and DuPont representatives visually inspected the site to verify that the residue had been shipped offsite. Although some industrial monitoring was performed during the extrusion operations, there are no records of extensive decontamination or surveys after completion of MED activities. Machinery used for processing uranium has been sold or removed with no records indicating its final disposition. In 1992, the B&T Metals site was designated for cleanup under FUSRAP.

An initial screening of the B&T Metals property was conducted by members of the Oak Ridge National Laboratory (ORNL) Measurements Applications and Development Group on August 2, 1988. ORNL made a subsequent visit to the site on April 25, 1989, to collect air samples in the main building. A radiological assessment of soil and dust samples measured concentrations of radium and thorium at or near the background level, and indoor air samples were below the minimum detectable amounts for gross alpha and beta radiation. However, direct beta/gamma measurements at floor and overhead beams locations exceeded the allowable surface contamination guidelines. Elevated concentrations of uranium were found inside the main building in several floor, sump, and drain locations and in dust on building support beams. Elevated external gamma radiation readings were also found in soil samples taken from the outdoor area where process fluids or shavings from the MED activities reportedly were disposed of.

Post-remedial action surveys conducted in 1996 have demonstrated, and DOE has certified, that the subject property is in compliance with the Department's radiological decontamination criteria and standards in effect at the conclusion of the remedial action. The standards are established to protect members of the general public and occupants of the property and to ensure that reasonably foreseeable future use of the property will result in no radiological exposure above applicable radiological guidelines. These findings are supported by the Department's Certification Docket for the Remedial Action Performed at the B&T Metals Site in Columbus, Ohio. DOE makes no representation regarding the condition of the site as a result of activities conducted subsequent to DOE's post-remedial action survey conducted in 1996.

The Certification docket will be available for review between 9:00 a.m. and 4:00 p.m., Monday through Friday (except Federal holidays) in the Department's Public Reading Room Located in Room 1E-190 of the Forrestal Building, 1000 Independence Avenue, S.W., Washington, D.C. 20585. Copies of the certification docket will also be available in the DOE Public Document Room, U.S. Department of Energy, Oak Ridge Operations Office, Oak Ridge, Tennessee 37831, and at the State Library of Ohio, Documents Division, 65 South Front Street, Columbus, Ohio 43215.

DOE, through the Oak Ridge Operations Office of Environmental Management, Oak Ridge Reservation Remediation Management Group, has issued the following statement:

Statement of Certification: B&T Metals in Columbus, Ohio

The Department of Energy (DOE), Oak Ridge Operations (ORO) Office of Environmental Management, Oak Ridge Reservation (ORR) Remediation Management Group, has reviewed and analyzed the radiological data obtained following remedial action at the B&T Metals site in Columbus, Ohio [Parcels 158 and 159, Map F-15, filed in Deed Books 2829, 1227, and 1301 Pages 125, 419, and 154 respectively; and Parcels 1 through 9, Map F-24, filed in Deed Books 3450, 3490, and 2786, Pages 43 (135m 136, 342) and 280, respectively, all in the records of Franklin County, Ohio]. Based on analysis of all data collected, including post-remedial action surveys conducted in 1996, DOE certifies that any residual contamination remaining onsite falls within the guidelines, in effect at the conclusion of remedial action, for use of the site without radiological restrictions. This certification of compliance provides assurance that reasonably foreseeable future use of the site will result in no radiological exposure above radiological guidelines, in effect at the conclusion of the remedial action, for protecting members of the general public as well as occupants of the site.

Property owned by: David L. Tolbert, B&T Metals Company, P.O. Box 163520, 425 West Town Street, Columbus, Ohio 43216-3520

Issued in Oak Ridge, TN, on June 13, 2001.
William M. Seay,
Group Leader, ORR Remediation Management Group.

[FR Doc. 01-15981 Filed 6-25-01; 8:45 am]

BILLING CODE 6450-01-P